NUCLEAR REGULATORY COMMISSION

[NRC-2016-0239]

Biweekly Notice: Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from October 25 to November 7, 2016. The last biweekly notice was published on November 8, 2016.

DATES: Comments must be filed by December 22, 2016. A request for a hearing must be filed by January 23, 2017.

ADDRESSES: You may submit comments by any of the following methods (unless this document describes a different method for submitting comments on a specific subject):

• Federal Rulemaking Web site: Go to http://www.regulations.gov and search for Docket ID NRC-2016-0239. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Beverly Clayton, Office of Nuclear Reactor Regulation, U.S. Nuclear Regulatory Commission, Washington, DC 20555-0001; telephone: 301-415-3475, email: Beverly.Clayton@nrc.gov.

SUPPLEMENTARY INFORMATION:

I. Obtaining Information and Submitting Comments

A. Obtaining Information

Please refer to Docket ID NRC-2016-0239, facility name, unit number(s), plant docket number, application date, and subject when contacting the NRC about the availability of information for this action. You may obtain publicly-available information related to this action by any of the following methods:

• Federal Rulemaking Web site: Go to http://www.regulations.gov and search for Docket ID NRC-2016-0239.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

B. Submitting Comments

Please include Docket ID NRC-2016-0239, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and a petition to intervene (petition) with respect to the action. Petitions shall be filed in accordance with the Commission's “Agency Rules of Practice and Procedure” in 10 CFR part 2. Interested persons should consult a current copy of 10 CFR 2.309, which is available at the NRC's PDR, located at One White Flint North, Room O1-F21, 11555 Rockville Pike (first floor), Rockville, Maryland 20852. The NRC's regulations are accessible electronically from the NRC's Library on the NRC's Web site at http://www.nrc.gov/reading-rm/doc-collections/cfr/. If a petition is filed within 60 days, the Commission or a presiding officer designated by the Commission or by the Chief Administrative Judge of the Atomic Safety and Licensing Board Panel, will rule on the petition; and the Secretary or the Chief Administrative Judge of the Atomic Safety and Licensing Board Panel will issue a notice of a hearing or an appropriate order.

As required by 10 CFR 2.309, a petition shall set forth with particularity the interest of the petitioner in the proceeding, and how that interest may be affected by the results of the proceeding. The petition should specifically explain the reasons why intervention should be permitted with particular reference to the following general requirements: (1) The name, address, and telephone number of the petitioner; (2) the nature of the petitioner's right under the Act to be made a party to the proceeding; (3) the nature and extent of the petitioner's property, financial, or other interest in the proceeding; and (4) the possible effect of any decision or order which may be entered in the proceeding on the petitioner's interest. The petition must also set forth the specific contentions which the petitioner seeks to have litigated at the proceeding.

Each contention must consist of a specific statement of the issue of law or fact to be raised or controverted. In addition, the petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion to support its position on the issue. The petition must include sufficient information to show that a genuine dispute exists with the applicant on a material issue of law or fact. Contentions shall be limited to matters within the scope of the proceeding. The contention must be one which, if proven, would entitle the petitioner to relief. A petitioner who fails to satisfy these requirements with respect to at least one contention will not be permitted to participate as a party.

Those permitted to intervene become parties to the proceeding, subject to any limitations in the order granting leave to intervene, and have the opportunity to participate fully in the conduct of the hearing with respect to resolution of that person's admitted contentions consistent with the NRC's regulations, policies, and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1).

The petition should state the nature and extent of the petitioner's interest in the proceeding. The petition should be submitted to the Commission by January 23, 2017. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing, a petition for leave to intervene, any motion or other document filed in the proceeding prior to the submission of a request for hearing or petition to intervene (hereinafter “petition”), and documents filed by interested governmental entities participating under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a petition (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are available on the NRC's public Web site at http://www.nrc.gov/site-help/e-submittals/adjudicatory-sub.html. Participants may attempt to use other software not listed on the Web site, but should note that the NRC's E-Filing system does not support unlisted software, and the NRC Electronic Filing Help Desk will not be able to offer assistance in using unlisted software.

Once a participant has obtained a digital ID certificate and a docket has been created, the participant can then submit a petition. Submissions should be in Portable Document Format (PDF). Additional guidance on PDF submissions is available on the NRC's public Web site at http://www.nrc.gov/site-help/electronic-sub-ref-mat.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing petition to intervene is filed so that they can obtain access to the document via the E-Filing system.

A person filing electronically using the NRC's adjudicatory E-Filing system may seek assistance by contacting the NRC Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 7 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a petition will require including information on local residence in order to demonstrate a proximity assertion of interest in the proceeding. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

For further details with respect to these license amendment applications, see the application for amendment which is available for public inspection in ADAMS and at the NRC's PDR. For additional direction on accessing information related to this document, see the “Obtaining Information and Submitting Comments” section of this document.

DTE Electric Company, Docket No. 50-341, Fermi 2, Monroe County, Michigan

Date of amendment request: July 25, 2016. A publicly-available version is in ADAMS under Accession No. ML16207A433.

Description of amendment request: The proposed amendment would eliminate Technical Specification (TS) Section 5.5.6, “Inservice Testing and Inspection Program,” as well as revise TS Section 5.5.4, “Radioactive Effluent Controls Program,” by clarifying that Surveillance Requirements (SRs) 3.0.2 and 3.0.3 are applicable to the radioactive effluents program. In addition, the amendment proposes adding a new definition for “Inservice Testing Program” (IST), to TS Section 1.1, “Definitions.” TS SRs that currently refer to the IST would be revised to refer to the new defined term, “INSERVICE TESTING PROGRAM.” The proposed changes are consistent with NRC-approved Technical Specifications Task Force (TSTF) Traveler, TSTF-545, Revision 3, “TS Inservice Testing Program Removal & Clarify SR Usage Rule Application to TS Section 5.5 Testing.”

Basis for proposed no significant hazards consideration determination: As required by 10 CFR 50.91(a), the licensee has provided its analysis of the issue of no significant hazards consideration, which is presented below:

1. Does the proposed change involve a significant increase in the probability or consequences of an accident previously evaluated?

Response: No.

The proposed change revises TS Chapter 5, “Administrative Controls,” Section 5.5, “Programs and Manuals,” by eliminating the “Inservice Testing Program” specification. Most requirements in the Inservice Testing Program are removed, as they are duplicative of requirements in the ASME OM [American Society of Mechanical Engineers Operation and Maintenance] Code, as clarified by Code Case OMN-20, “Inservice Test Frequency.” The remaining requirements in the Section 5.5 IST Program are eliminated because the NRC has determined their inclusion in the TS is contrary to regulations. A new defined term, “Inservice Testing Program,” is added to the TS, which references the requirements of 10 CFR 50.55a(f).

Performance of inservice testing is not an initiator to any accident previously evaluated. As a result, the probability of occurrence of an accident is not significantly affected by the proposed change. Inservice test frequencies under Code Case OMN-20 are equivalent to the current testing period allowed by the TS with the exception that testing frequencies greater than 2 years may be extended by up to 6 months to facilitate test scheduling and consideration of plant operating conditions that may not be suitable for performance of the required testing. The testing frequency extension will not affect the ability of the components to mitigate any accident previously evaluated as the components are required to be operable during the testing period extension. Performance of inservice tests utilizing the allowances in OMN-20 will not significantly affect the reliability of the tested components. As a result, the availability of the affected components, as well as their ability to mitigate the consequences of accidents previously evaluated, is not affected.

Therefore, the proposed change does not involve a significant increase in the probability or consequences of an accident previously evaluated.

2. Does the proposed change create the possibility of a new or different kind of accident from any accident previously evaluated?

Response: No.

The proposed change does not alter the design or configuration of the plant. The proposed change does not involve a physical alteration of the plant; no new or different kind of equipment will be installed. The proposed change does not alter the types of inservice testing performed. In most cases, the frequency of inservice testing is unchanged. However, the frequency of testing would not result in a new or different kind of accident from any previously evaluated since the testing methods are not altered.

Therefore, the proposed change does not create the possibility of a new or different kind of accident from any previously evaluated.

3. Does the proposed change involve a significant reduction in a margin of safety?

Response: No.

The proposed change eliminates some requirements from the TS in lieu of requirements in the ASME Code, as modified by use of Code Case OMN-20. Compliance with the ASME Code is required by 10 CFR 50.55a. The proposed change also allows inservice tests with frequencies greater than 2 years to be extended by 6 months to facilitate test scheduling and consideration of plant operating conditions that may not be suitable for performance of the required testing. The testing frequency extension will not affect the ability of the components to respond to an accident as the components are required to be operable during the testing period extension. The proposed change will eliminate the existing TS SR [surveillance requirement] 3.0.3 allowance to defer performance of missed inservice tests up to the duration of the specified testing frequency, and instead will require an assessment of the missed test on equipment operability. This assessment will consider the effect on a margin of safety (equipment operability). Should the component be inoperable, the TS provide actions to ensure that the margin of safety is protected. The proposed change also eliminates a statement that nothing in the ASME Code should be construed to supersede the requirements of any TS. The NRC has determined that statement to be incorrect. However, elimination of the statement will have no effect on plant operation or safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jon P. Christinidis, DTE Energy, Expert Attorney—Regulatory, 688 WCB, One Energy Plaza, Detroit, MI 48226-1279.

NRC Branch Chief: David J. Wrona.

Duke Energy Progress, LLC, Docket No. 50-261, H.B. Robinson Steam Electric Plant (HBRSEP) Unit No. 2, Darlington County, South Carolina

Date of amendment request: September 14, 2016. A publicly-available version is in ADAMS under Accession No. ML16259A169.

Description of amendment request: The proposed amendment would adopt a revised alternative source term (AST) to support the transition from an 18-month to a 24-month fuel cycle. The amendment would also change applicable licensing basis documents.

Basis for proposed no significant hazards consideration determination: As required by 10 CFR 50.91(a), the licensee has provided its analysis of the issue of no significant hazards consideration, which is presented below:

1. The Proposed Change Does Not Involve a Significant Increase in the Probability or Consequences of an Accident Previously Evaluated.

Revision of the AST does not affect the design or operation of HBRSEP, Unit No. 2. Rather, once the occurrence of an accident has been postulated, the new source term is an input to evaluate the consequences of the postulated accident. The revision of the AST has been evaluated. Based on the results of this analysis, it has been demonstrated that the dose consequences are within the regulatory [requirements and] guidance provided by the NRC. This [These regulatory requirements and] guidance is [are] presented in 10 CFR 50.67 and Regulatory Guide 1.183 [, respectively].

Therefore, this change does not involve a significant increase in the probability or consequences of an accident previously evaluated.

2. The Proposed Change Does Not Create the Possibility of a New or Different Kind of Accident From Any Previously Evaluated.

The proposed change does not affect plant structures, systems, or components. The proposed change is a revision evaluation and does not initiate design basis accidents.

Thus, this change does not create the possibility of a new or different kind of accident from any accident previously evaluated.

3. The Proposed Change Does Not Involve a Significant Reduction in the Margin of Safety.

The proposed change is associated with a revision to the licensing basis for HBRSEP, Unit No. 2. The revised AST is in accordance with 10 CFR 50.67 and the associated Regulatory Guide 1.183. The analysis has been performed using conservative methodologies in accordance with regulatory guidance. The dose consequences are within the acceptance criteria found in the regulatory [requirements and] guidance associated with Alternative Source Terms.

The proposed change continues to ensure that doses at the exclusion area and low population zone boundaries, as well as the control room, are within the corresponding regulatory limits. Specifically, the margin of safety for the radiological consequences of these accidents is considered to be that provided by meeting the applicable regulatory limits.

Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Associate General Counsel, Duke Energy Business Services, 550 South Tyron Street, Mail Code DEC45A, Charlotte, NC 28202.

Acting NRC Branch Chief: Jeanne A. Dion.

Entergy Operations, Inc. (Entergy), Docket No. 50-382, Waterford Steam Electric Station, Unit 3 (Waterford 3), St. Charles Parish, Louisiana

Date of amendment request: September 21, 2016. A publicly-available version is in ADAMS under Accession No. ML16245A359.

Description of amendment request: Entergy proposes to revise the Waterford 3 Technical Specifications (TS) to clarify the surveillance requirements for selected Engineered Safety Features Actuation System (ESFAS) Subgroup relays. Specifically, the license amendment would revise Table Notation for TS Table 4.3-2, “Engineered Safety Features Actuation System Instrumentation Surveillance Requirements,” to remove references to specific relays and to ensure the notation fully reflects the implementation of the Waterford 3 Surveillance Frequency Control Program (SFCP). The Waterford 3 SFCP was approved by letter dated July 26, 2016, via License Amendment No. 249 (ADAMS Accession No. ML16159A419).

Basis for proposed no significant hazards consideration determination: As required by 10 CFR 50.91(a), the licensee has provided its analysis of the issue of no significant hazards consideration, which is presented below with NRC staff's edits in [square brackets]:

1. Does the proposed change involve a significant increase in the probability or consequences of an accident previously evaluated?

Response: No.

The proposed change will allow relays K105 and K306 to not be tested during power operation but shall be tested in accordance with the same frequency identified in the SFCP for the primary relays, which currently requires that they be tested at least once per 18 months and during each cold shutdown condition unless tested within the previous 62 days. The probability of an accident previously evaluated remains unchanged since the primary relays K114, K305, and K313 are currently tested in accordance with the SFCP (not tested during power operation but are tested at least once per 18 months and during each cold shutdown condition unless tested within the previous 62 days), K105 and K306 are currently not tested during power operation, and K105 and K306 will be tested in accordance with the SFCP (at least once per 18 months and during each cold shutdown condition unless tested within the previous 62 days). Not testing relays K105 and K306 during power operation and testing during cold shutdown cannot initiate an accident because the specific accidents which inadvertent ESFAS actuation is an initiator (Loss of External Load, Loss of Normal Feedwater Flow, Asymmetric Steam Generator Transient, and Loss of Component Cooling to the RCPs [Reactor Coolant Pumps]) are not possible during cold shutdown.

The proposed change to allow relays K105 and K306 to not be tested during power operation have been evaluated for impact on the accident analyses. The accident analyses remain within the regulatory acceptance criteria.

Therefore, the proposed change does not involve a significant increase in the probability or consequences of an accident previously evaluated.

Moreover, testing of the modified relay scheme during power operation could result in inadvertent actuation and subsequent occurrence of an accident if either the permissive or primary relay has failed “off,” or actuated. Continued testing in accordance with the SFCP assures inadvertent actuation during testing resulting from a failed “off” relay will not result in an accident described in the UFSAR [Updated Final Safety Analysis Report].

2. Does the proposed change create the possibility of a new or different kind of accident from any accident previously evaluated?

Response: No.

The proposed change allows relays K105 and K306 to be tested in accordance with the SFCP (not tested during power operation but shall be tested at least once per 18 months and during each cold shutdown condition unless tested within the previous 62 days). This surveillance frequency does not change the design function or operation of the ESFAS. There are no credible new failure mechanisms, malfunctions, or accident initiators not considered in the design and licensing bases that can be created by implementing the proposed change.

Therefore, the proposed change does not create the possibility of a new or different kind of accident from any previously evaluated.

3. Does the proposed change involve a significant reduction in a margin of safety?

Response: No.

The inclusion of relays K105 and K306 in the list of relays in the SFCP that are not tested during power operation as proposed in this TS 3/4.3.2 amendment request has been determined to not exceed or alter a design basis or safety limit and therefore has no significant impact on the accident analyses described in the UFSAR, therefore this change does not involve a significant reduction in the existing margins of safety for the fuel, the fuel cladding, the reactor coolant system boundary, or the containment building.

The NRC staff has reviewed the licensee's analysis and, based on this review, it appears that the three standards of 10 CFR 50.92(c) are satisfied. Therefore, the NRC staff proposes to determine that the amendment request involves no significant hazards consideration.

Attorney for licensee: William B. Glew, Jr., Associate General Counsel—Entergy Services, Inc., 440 Hamilton Avenue, White Plains, New York 10601.

Acting NRC Branch Chief: Stephen S. Koenick.

Exelon Generation Company, LLC (Exelon), Docket No. 50-219, Oyster Creek Nuclear Generating Station (OCNGS), Ocean County, New Jersey

Date of amendment request: May 17, 2016, as supplemented by letter dated November 2, 2016. Publicly-available versions are available in ADAMS under Accession Nos. ML16138A129 and ML16308A029, respectively.

Description of amendment request: The licensee has provided a formal notification to the NRC, in a letter dated January 7, 2011 (ADAMS Accession No. ML110070507), of the intention to permanently cease power operations of OCNGS no later than December 31, 2019. Once certifications for permanent cessation of operations and permanent removal of fuel from the reactor are submitted to the NRC, certain staffing and training Technical Specifications (TSs) administrative controls will no longer be applicable or appropriate for the permanently defueled condition. Therefore, Exelon is requesting approval of changes to the staffing and training requirements in Section 6.0, “Administrative Controls”; editorial and administrative changes to Section 6.0, and add additional definitions to TS Section 1.1, “Definitions,” of the OCNGS TSs. The proposed changes include additions to, deletions from, and conforming administrative changes to the OCNGS TSs. The proposed amendment would not be effective until the certification of permanent cessation of operation and certification of permanent removal of fuel from the reactor vessel are submitted to the NRC.

The license amendment request was originally noticed in the Federal Register on July 19, 2016 (81 FR 46963). The notice is being reissued in its entirety to include the revised scope and description of the amendment request.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes would not take effect until OCNGS has permanently ceased operation and entered a permanently defueled condition. The proposed changes would revise the OCNGS TS by deleting or modifying certain portions of the TS administrative controls described in Section 6.0 of the TS that are no longer applicable to a permanently shutdown and defueled facility.

The proposed changes do not involve any physical changes to plant Structures, Systems, and Components (SSCs) or the manner in which SSCs are operated, maintained, modified, tested, or inspected. The proposed changes do not involve a change to any safety limits, limiting safety system settings, limiting control settings, limiting conditions for operation, surveillance requirements, or design features.

The deletion and modification of provisions of the administrative controls do not directly affect the design of SSCs necessary for safe storage of spent irradiated fuel or the methods used for handling and storage of such fuel in the Spent Fuel Pool (SFP). The proposed changes are administrative in nature and do not affect any accidents applicable to the safe management of spent irradiated fuel or the permanently shutdown and defueled condition of the reactor.

In a permanently defueled condition, the only credible accidents are the Fuel Handling Accident (FHA), Radioactive Liquid Waste System Leak, and Postulated Radioactive Releases Due to Liquid Tank Failures. Other accidents such as Loss of Coolant Accident, Loss of Feedwater, and Reactivity and Power Distribution Anomalies will no longer be applicable to a permanently defueled reactor plant.

The probability of occurrence of previously evaluated accidents is not increased, since extended operation in a permanently defueled condition will be the only operation allowed, and therefore, bounded by the existing analyses. Additionally, the occurrence of postulated accidents associated with reactor operation is no longer credible in a permanently defueled reactor. This significantly reduces the scope of applicable accidents.

Therefore, the proposed changes do not involve a significant increase in the probability or consequence of an accident previously evaluated.

2. Does the proposed amendment create the possibility of a new or different kind of accident from any accident previously evaluated?

Response: No.

The proposed changes to delete and/or modify certain TS administrative controls have no impact on facility SSCs affecting the safe storage of spent irradiated fuel, or on the methods of operation of such SSCs, or on the handling and storage of spent irradiated fuel itself. The proposed changes do not result in different or more adverse failure modes or accidents than previously evaluated because the reactor will be permanently shut down and defueled and OCNGS will no longer be authorized to operate the reactor.

The proposed changes do not affect systems credited in the accident analysis for the FHA, Radioactive Liquid Waste System Leak, and Postulated Radioactive Releases Due to Liquid Tank Failures at OCNGS. The proposed changes will continue to require proper control and monitoring of safety significant parameters and activities.

The proposed changes do not result in any new mechanisms that could initiate damage to the remaining relevant safety barriers in support of maintaining the plant in a permanently shutdown and defueled condition (e.g., fuel cladding and SFP cooling). Since extended operation in a defueled condition will be the only operation allowed, and therefore bounded by the existing analyses, such a condition does not create the possibility of a new or different kind of accident.

The proposed changes do not alter the protection system design, create new failure modes, or change any modes of operation. The proposed changes do not involve a physical alteration of the plant, and no new or different kind of equipment will be installed. Consequently, there are no new initiators that could result in a new or different kind of accident.

Therefore, the proposed changes do not create the possibility of a new or different kind of accident from any accident previously evaluated.

3. Does the proposed amendment involve a significant reduction in a margin of safety?

Response: No.

The proposed changes involve deleting and/or modifying certain TS administrative controls once the OCNGS facility has been permanently shutdown and defueled. As specified in 10 CFR 50.82(a)(2), the 10 CFR 50 license for OCNGS will no longer authorize operation of the reactor or emplacement or retention of fuel into the reactor vessel following submittal of the certifications required by 10 CFR 50.82(a)(1). As a result, the occurrence of certain design basis postulated accidents are no longer considered credible when the reactor is permanently defueled.

The only remaining credible accident is a fuel handling accident (FHA). The proposed changes do not adversely affect the inputs or assumptions of any of the design basis analyses that impact the FHA.

The proposed changes are limited to those portions of the TS administrative controls that are related to the safe storage and maintenance of spent irradiated fuel. The requirements that are proposed to be revised and/or deleted from the OCNGS TS are not credited in the existing accident analysis for the remaining applicable postulated accident (i.e., FHA); therefore, they do not contribute to the margin of safety associated with the accident analysis. Certain postulated DBAs [design-basis accidents] involving the reactor are no longer possible because the reactor will be permanently shut down and defueled and OCNGS will no longer be authorized to operate the reactor.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

Acting NRC Branch Chief: Douglas A. Broaddus.

NextEra Energy Duane Arnold, LLC, Docket No. 50-331, Duane Arnold Energy Center (DAEC), Linn County, Iowa

Date of amendment request: September 13, 2016. A publicly-available version is in ADAMS under Accession No. ML16263A071.

Description of amendment request: The proposed amendment would revise the DAEC Emergency Plan to increase staff augmentation times for Emergency Response Organization response functions.

Basis for proposed no significant hazards consideration determination: As required by 10 CFR 50.91(a), the licensee has provided its analysis of the issue of no significant hazards consideration, which is presented below:

1. Does the proposed change involve a significant increase in the probability or consequences of an accident previously evaluated?

Response: No.

The proposed increase in staff augmentation times has no effect on normal plant operation or on any accident initiator or precursors and does not impact the function of plant structures, systems, or components (SCCs). The proposed change does not alter or prevent the ability of the

Emergency Response Organization to perform their intended functions to mitigate the consequences of an accident or event. The ability of the emergency response organization to respond adequately to radiological emergencies has been demonstrated as acceptable through a staffing analysis as required by 10 CFR 50 Appendix E.IV.A.9.

Therefore, the proposed Emergency Plan changes do not involve a significant increase in the probability or consequences of an accident previously evaluated.

2. Does the proposed change create the possibility of a new or different kind of accident from any accident previously evaluated?

Response: No.

The proposed change does not impact the accident analysis. The change does not involve a physical alteration of the plant (i.e., no new or different type of equipment will be installed), a change in the method of plant operation, or new operator actions. The proposed change does not introduce failure modes that could result in a new accident, and the change does not alter assumptions made in the safety analysis. This proposed change increases the staff augmentation response times in the Emergency Plan, which are demonstrated as acceptable through a staffing analysis as required by 10 CFR 50 Appendix E.IV.A.9. The proposed change does not alter or prevent the ability of the Emergency Response Organization to perform their intended functions to mitigate the consequences of an accident or event.

Therefore, the proposed change does not create the possibility of a new or different kind of accident from any accident previously evaluated.

3. Does the proposed change involve a significant reduction in a margin of safety?

Response: No.

Margin of safety is associated with confidence in the ability of the fission product barriers (i.e., fuel cladding, reactor coolant system pressure boundary, and containment structure) to limit the level of radiation dose to the public. The proposed change is associated with the Emergency Plan staffing and does not impact operation of the plant or its response to transients or accidents. The change does not affect the Technical Specifications. The proposed change does not involve a change in the method of plant operation, and no accident analyses will be affected by the proposed change. Safety analysis acceptance criteria are not affected by this proposed change. The revised Emergency Plan will continue to provide the necessary response staff with the proposed change. A staffing analysis and a functional analysis were performed for the proposed change on the timeliness of performing major tasks for the functional areas of Emergency Plan. The analysis concluded that an extension in staff augmentation times would not significantly affect the ability to perform the required Emergency Plan tasks. Therefore, the proposed change is determined to not adversely affect the ability to meet 10 CFR 50.54(q)(2), the requirements of 10 CFR 50 Appendix E, and the emergency planning standards as described in 10 CFR 50.47 (b).

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: William Blair, P.O. Box 14000 Juno Beach, FL 33408-0420.

NRC Branch Chief: David J. Wrona.

PSEG Nuclear LLC, Docket Nos. 50-354, 50-272, and 50-311, Hope Creek Generating Station (Hope Creek) and Salem Nuclear Generating Station, Unit Nos. 1 and 2 (Salem), Salem County, New Jersey

Date of amendment request: October 17, 2016. A publicly-available version is in ADAMS under Accession No. ML16291A318.

Description of amendment request: The amendments would revise the technical specifications (TSs) by removing certain training program requirements. Specifically, the amendments would remove TS requirements that are redundant to or superseded by the requirements contained in 10 CFR part 55 and 10 CFR 50.120.

Basis for proposed no significant hazards consideration determination: As required by 10 CFR 50.91(a), the licensee has provided its analysis of the issue of no significant hazards consideration, which is presented below:

1. Does the proposed amendment involve a significant increase in the probability or consequences of an accident previously evaluated?

Response: No.

The proposed change is an administrative change to remove the plant staff retraining and replacement training program requirements from the TS. The proposed change does not directly impact accidents previously evaluated. The Salem and Hope Creek licensed operator training programs have been accredited by the Institute of Nuclear Power Operations (INPO) and are based on a systems approach to training. The proposed TS changes take credit for the INPO accreditation of the licensed operator training programs and require continued compliance with the requirements of 10 CFR 55. The TS requirements for all other unit staff qualifications remain unchanged.

The training program for appropriate unit staff personnel other than licensed operators is addressed by 10 CFR 50.120. With the 10 CFR 50.120 rule, the NRC is emphasizing the need to ensure that industry personnel training programs are based upon job performance requirements. Personnel who are subjected to training based on job performance requirements should be able to perform their jobs more efficiently and with fewer errors. This is accomplished using the systems approach to training implemented by INPO accredited training programs for selected nuclear personnel. Included within the rule is the requirement that the training program must reflect industry experience.

Therefore, the proposed change does not involve a significant increase in the probability or consequences of an accident previously evaluated.

2. Does the proposed amendment create the possibility of a new or different kind of accident from any accident previously evaluated?

Response: No.

The proposed TS changes are administrative changes to clarify the current requirements for training programs and conform to 10 CFR 55 and 10 CFR 50.120.

The Salem and Hope Creek training programs for licensed operators and for non-licensed in the nine categories of personnel listed in 10 CFR 50.120 have been accredited by INPO and are based on a systems approach to training. The proposed TS changes take credit for the INPO accreditation of training programs and require continued compliance with the requirements of 10 CFR 55 and 10 CFR 120. The TS requirements for unit staff qualifications remain unchanged.

Therefore, the proposed change does not create the possibility of a new or different kind of accident from any previously evaluated.

3. Does the proposed amendment involve a significant reduction in a margin of safety?

Response: No.

The proposed changes are administrative in nature and do not affect the plant design, hardware, system operation, or operating procedures. The change does not exceed or alter a design basis or safety limit and thus does not reduce the margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

Acting NRC Branch Chief: Stephen S. Koenick.

South Carolina Electric & Gas Company, Docket Nos. 52-027 and 52-028, Virgil C. Summer Nuclear Station, Units 2 and 3, Fairfield, South Carolina

Date of amendment request: October 24, 2016. A publicly-available version is in ADAMS under Accession No. ML16298A385.

Description of amendment request: The amendment request proposes changes to update the Protection and Safety Monitoring System (PMS) design, specifically the description of the roles of the Qualified Data Processing System (QDPS) and the safety displays. The proposed changes add Main Control Room (MCR) safety-related display divisions A and D to plant-specific Tier 1 (and associated Combined License (COL) Appendix C) and the Updated Final Safety Analysis Report (UFSAR), and correct the name of the QDPS in the UFSAR by referring to the QDPS as a system, rather than a subsystem. Because, this proposed change requires a departure from Tier 1 information in the Westinghouse Electric Company's AP1000 Design Control Document (DCD), the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed change to the roles of the qualified data processing system (QDPS) and safety-related displays, as well as the change to add Division A and Division D of the main control room (MCR) safety-related displays to the listing of PMS equipment, as identified in Combined License (COL) Appendix C (and plant-specific Tier 1) Table 2.5.2-1 and Updated Final Safety Analysis Report (UFSAR) Table 3.11-1 and 3l.6-2 do not alter any accident initiating component/system failure or event, thus the probabilities of the accidents previously evaluated are not affected.

The proposed changes do not adversely affect safety-related equipment or a radioactive material barrier, and this activity dos not involve the containment of radioactive material.

The radioactive material source terms and release paths used in the safety analysis are unchanged, thus the radiological releases in the UFSAR accident analysis are not affected.

Therefore, the proposed amendment does not involve a significant increase in the probability or consequences of an accident previously evaluated.

2. Does the proposed amendment create the possibility of a new or different kind of accident from any accident previously evaluated?

Response: No.

The proposed change to the roles of the QDPS and safety-related displays, as well as the change to add Division A and Division D of the MCR safety-related displays to the listing of PMS equipment, as identified in COL Appendix C (and plant-specific Tier 1) Table 2.5.2-1 and UFSAR Table 3.11-1 and 3l.6-2 does not create the possibility of a new or different kind of accident from any accident previously evaluated. The proposed changes do not alter the design or capability of any sensors which provide input to the QDPS. The functionality of the QDPS to process the input obtained from sensors into data to be sent to the safety displays is not affected by the proposed changes. The proposed changes do not affect any functions performed by the safety displays, nor do the proposed changes affect the capability of the safety displays to display the data received from the QDPS.

Therefore, the proposed amendment does not create the possibility of a new or different kind of accident from any accident previously evaluated.

3. Does the proposed amendment involve a significant reduction in a margin of safety?

Response: No.

There is no safety-related structure, system or component (SSC) or function adversely affected by the proposed change to the roles of the QDPS and safety-related displays, nor by the change to add Division A and Division D of the MCR safety-related displays to the listing of Protection and Safety Monitoring System (PMS) equipment. The proposed changes do not alter the mechanisms by which system components are actuated or controlled. Because no safety analysis or design basis acceptance limit/criterion is challenged or exceeded by the proposed changes, no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius, LLC, 1111 Pennsylvania NW., Washington, DC 20004-2514.

NRC Branch Chief: Jennifer Dixon-Herrity.

Tennessee Valley Authority, Docket Nos. 50-390 and 50-391, Watts Bar Nuclear Plant (WBN), Units 1 and 2, Rhea County, Tennessee

Date of amendment request: March 29, 2016. A publicly-available version is in ADAMS under Accession No. ML16089A452.

Description of amendment request: The amendments would revise the WBN, Units 1 and 2, Technical Specification (TS) requirements for inoperable dynamic restraints (snubbers) by adding Limiting Condition for Operation (LCO) 3.0.8. The change is consistent with the NRC-approved Revision 4 to Technical Specification Task Force (TSTF) Standard Technical Specification Change Traveler, TSTF-372, “Addition of LCO 3.0.8, Inoperability of Snubbers.”

The proposed amendment for WBN, Unit 1, would also make an administrative change to add a reference to LCO 3.0.7 in LCO 3.0.1, consistent with TSTF-6, Revision 1, “Add Exception for LCO 3.0.7 to LCO 3.0.1.”

The NRC staff issued a notice of availability of a model safety evaluation and model no significant hazards consideration (NSHC) determination for referencing in license amendment applications in the Federal Register on May 4, 2005 (70 FR 23252). The licensee affirmed the applicability of the model NSHC determination in its application dated March 29, 2016.

Basis for proposed no significant hazards consideration determination: As required by 10 CFR 50.91(a), an analysis of the issue of no significant hazards consideration is presented below:

Criterion 1—The Proposed Changes Do Not Involve a Significant Increase in the Probability or Consequences of an Accident Previously Evaluated.

The proposed change allows a delay time for entering a supported system TS when the inoperability is due solely to an inoperable snubber if risk is assessed and managed. The postulated seismic event requiring snubbers is a low-probability occurrence and the overall TS system safety function would still be available for the vast majority of anticipated challenges. Therefore, the probability of an accident previously evaluated is not significantly increased, if at all. The consequences of an accident while relying on allowance provided by proposed LCO 3.0.8 are no different than the consequences of an accident while relying on the TS required actions in effect without the allowance provided by proposed LCO 3.0.8. Therefore, the consequences of an accident previously evaluated are not significantly affected by this change. The addition of a requirement to assess and manage the risk introduced by this change will further minimize possible concerns.

The proposed administrative change for WBN, Unit 1, does not affect the structures, systems, or components (SSCs) of the plant, affect plant operations, or any design function or an analysis that verifies the capability of an SSC to perform a design function. No change is being made to any of the previously evaluated accidents in the WBN Unit 1 Updated Final Safety Analysis Report.

Therefore these changes do not involve a significant increase in the probability or consequences of an accident previously evaluated.

Criterion 2—The Proposed Changes Do Not Create the Possibility of a New or Different Kind of Accident From Any Previously Evaluated.

The proposed change does not involve a physical alteration of the plant (no new or different type of equipment will be installed). Allowing delay times for entering supported system TS when inoperability is due solely to inoperable snubbers, if risk is assessed and managed, will not introduce new failure modes or effects and will not, in the absence of other unrelated failures, lead to an accident whose consequences exceed the consequences of accidents previously evaluated. The addition of a requirement to assess and manage the risk introduced by this change will further minimize possible concerns.

The proposed administrative change for WBN, Unit 1, does not introduce any new accident causal mechanisms, since no physical changes are being made to the plant, nor do they impact any plant systems that are potential accident initiators.

Therefore, the proposed changes do not create the possibility of a new or different kind of accident from any accident previously evaluated.

Criterion 3—The Proposed Changes Do Not Involve a Significant Reduction in the Margin of Safety.

The proposed change allows a delay time for entering a supported system TS when the inoperability is due solely to an inoperable snubber, if risk is assessed and managed. The postulated seismic event requiring snubbers is a low-probability occurrence and the overall TS system safety function would still be available for the vast majority of anticipated challenges. The risk impact of the proposed TS changes was assessed following the three tiered approach recommended in NRC Regulatory Guide 1.177. A bounding risk assessment was performed to justify the proposed TS changes. This application of LCO 3.0.8 is predicated upon the licensee's performance of a risk assessment and the management of plant risk. The net change to the margin of safety is insignificant.

The proposed administrative change for WBN, Unit 1, will have no effect on the availability, operability, or performance of safety-related systems and components. The proposed change will not adversely affect the operation of plant equipment or the function of equipment assumed in the accident analysis. The proposed change does not involve changes to any safety analyses assumptions, safety limits, or limiting safety system settings. The change does not adversely affect plant-operating margins or the reliability of equipment credited in the safety analyses.

Therefore, the proposed changes do not involve a significant reduction in a margin of safety.

The NRC staff proposes to determine that the amendment request involves no significant hazards consideration.

Attorney for licensee: Sherry A. Quirk, Executive Vice President and General Counsel, Tennessee Valley Authority, 400 West Summit Hill Dr., 6A West Tower, Knoxville, TN 37902.

Acting NRC Branch Chief: Jeanne A. Dion.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Energy Northwest, Docket No. 50-397, Columbia Generating Station (CGS), Benton County, Washington

Date of application for amendment: March 17, 2015, as supplemented by letters dated September 17, October 29, November 17, and December 28, 2015; and April 7, May 11, and June 22, 2016.

Brief description of amendment: The amendment modified the CGS Technical Specifications by relocating specific surveillance frequencies to a licensee-controlled program consistent with NRC-approved Technical Specifications Task Force Traveler (TSTF)-425, Revision 3, “Relocate Surveillance Frequencies to Licensee Control—RITSTF [Risk-Informed Technical Specifications Task Force] Initiative 5b,” dated March 18, 2009. The availability of this TS improvement program was announced in the Federal Register on July 6, 2009 (74 FR 31996). The licensee has proposed certain plant-specific variations and deviations from TSTF-425, Revision 3, as described in its application dated March 17, 2015.

Date of issuance: November 3, 2016.

Effective date: As of its date of issuance and shall be implemented within 120 days from the date of issuance.

Amendment No.: 238. A publicly-available version is in ADAMS under Accession No. ML16253A025; documents related to this amendment are listed in the Safety Evaluation enclosed with the amendment.

Renewed Facility Operating License No. NPF-21: The amendment revised the Facility Operating License and Technical Specifications.

Date of initial notice in Federal Register: May 26, 2015 (80 FR 30100). The supplemental letters dated September 17, October 29, November 17, and December 28, 2015; and April 7, May 11, and June 22, 2016, provided additional information that clarified the application, did not expand the scope of the application as originally noticed, and did not change the staff's original proposed no significant hazards consideration determination as published in the Federal Register.

The Commission's related evaluation of the amendment is contained in a Safety Evaluation dated November 3, 2016.

No significant hazards consideration comments received: No.

Entergy Gulf States Louisiana, LLC, and Entergy Operations, Inc., Docket No. 50-458, River Bend Station, Unit 1 (RBS), West Feliciana Parish, Louisiana

Date of amendment request: October 29, 2015, as supplemented by letters dated April 19 and July 27, 2016.

Brief description of amendment: The amendment revises Technical Specification (TS) 5.5.13, “Primary Containment Leakage Rate Testing Program,” by incorporating Nuclear Energy Institute (NEI) topical report 94-01, Revision 3-A, as the implementation document for the RBS performance-based containment leakage rate testing program. Based on the guidance in NEI 94-01, Revision 3-A, the change allows the RBS Type A Test (Integrated Leak Rate Test, or ILRT) frequency to be extended from 120 to 180 months, and the Type C Tests (Local Leak Rate Tests, or LLRTs) frequency to be extended from 60 to 75 months. Additionally, the amendment modifies Surveillance Requirement (SR) 3.6.5.1.3 to extend the frequency of the Drywell Bypass Test from 120 to 180 months and revises its allowed extension per SR 3.0.2 from 12 to 9 months.

Date of issuance: October 27, 2016.

Effective date: As of the date of issuance and shall be implemented within 60 days from the date of issuance.

Amendment No.: 191. A publicly-available version is in ADAMS under Accession No. ML16287A599; documents related to this amendment are listed in the Safety Evaluation enclosed with the amendment.

Facility Operating License No. NPF-47: The amendment revised the Facility Operating License and TSs.

Date of initial notice in Federal Register: April 12, 2016 (81 FR 21597). The supplements dated April 19 and July 27, 2016, provided additional information that clarified the application, did not expand the scope of the application as originally noticed, and did not change the staff's original proposed no significant hazards consideration determination as published in the Federal Register.

The Commission's related evaluation of the amendment is contained in a Safety Evaluation dated October 27, 2016.

No significant hazards consideration comments received: No.

Entergy Nuclear Operations, Inc., Docket No. 50-255, Palisades Nuclear Plant, Van Buren County, Michigan

Date of amendment request: August 22, 2016, as supplemented by letter dated September 8, 2016.

Brief description of amendment: This amendment replaces existing license condition 2.C.(4) with a new license condition that states that Technical Specification (TS) Surveillance Requirement (SR) 3.1.4.3 is not required for control rod drive 13 (CRD-13) during cycle 25 until the next entry into Mode 3. In addition, the license condition states that CRD-13 seal leakage shall be repaired prior to entering Mode 2 following the next Mode 3 entry, and that the reactor shall be shut down if CRD-13 seal leakage exceeds 2 gallons per minute. The amendment also replaces an obsolete note in TS SR 3.1.4.3 with a note to clarify that TS SR 3.1.4.3 is not required to be performed or met for CRD-13 during cycle 25 provided CRD-13 is administratively declared immovable, but trippable, and Condition D is entered for CRD-13.

Date of issuance: October 28, 2016.

Effective date: As of the date of issuance and shall be implemented within 15 days.

Amendment No.: 260. A publicly-available version is in ADAMS under Accession No. ML16281A498; documents related to this amendment are listed in the Safety Evaluation enclosed with the amendment.

Renewed Facility Operating License No. DPR-20: Amendment revised the Renewed Facility Operating License and Technical Specifications.

Date of initial notice in Federal Register: September 27, 2016 (81 FR 66306).

The Commission's related evaluation of the amendment is contained in a Safety Evaluation dated October 28, 2016.

No significant hazards consideration comments received: No.

Entergy Nuclear Operations, Inc., Docket No. 50-293, Pilgrim Nuclear Power Station (Pilgrim), Plymouth County, Massachusetts

Date of amendment request: January 14, 2016.

Brief description of amendment: This amendment reduced the level of Pilgrim's Emergency Response Organization staff training for the on-shift Chemistry Technician to support on-shift Radiation Protection Technician functions at the onset of a radiological event. The amendment also revised paragraph 3.B of the Renewed Facility Operating License.

Date of issuance: October 28, 2016.

Effective date: As of the date of issuance, and shall be implemented within 30 days.

Amendment No.: 245. A publicly-available version is in ADAMS under Accession No. ML16250A223; documents related to this amendment are listed in the Safety Evaluation enclosed with the amendment.

Renewed Facility Operating License No. DPR-35: The amendment revised the Renewed Facility Operating License.

Date of initial notice in Federal Register: April 12, 2016 (81 FR 21597).

The Commission's related evaluation of the amendment is contained in a Safety Evaluation dated October 28, 2016.

No significant hazards consideration comments received: No.

Indiana Michigan Power Company, Docket Nos. 50-315 and 50-316, Donald C. Cook Nuclear Plant (CNP), Units 1 and 2, Berrien County, Michigan

Date of amendment request: March 14, 2016, as supplemented by letter dated October 28, 2016.

Brief description of amendments: The amendments revised the full implementation date (Milestone 8) of CNP, Units 1 and 2, Cyber Security Plan, and revised the associated license conditions for the renewed facility operating licenses.

Date of issuance: November 2, 2016.

Effective date: As of the date of issuance and shall be implemented within 60 days of issuance.

Amendment Nos.: 333 for Unit 1 and 315 for Unit 2. A publicly-available version is in ADAMS under Accession No. ML16077A029; documents related to this amendment are listed in the Safety Evaluation enclosed with the amendments.

Renewed Facility Operating License Nos. DPR-58 and DPR-74: Amendments revised the Renewed Facility Operating Licenses.

Date of initial notice in Federal Register: June 7, 2016 (81 FR 36605). The supplemental letter dated October 28, 2016, provided additional information that clarified the application, did not expand the scope of the application as originally noticed, and did not change the staff's original proposed no significant hazards consideration determination as published in the Federal Register.

The Commission's related evaluation of the amendment is contained in a Safety Evaluation dated November 2, 2016.

No significant hazards consideration comments received: No.

PSEG Nuclear LLC, Docket Nos. 50-272 and 50-311, Salem Nuclear Generating Station, Unit Nos. 1 and 2, Salem County, New Jersey

Date of amendment request: September 11, 2015, as supplemented by letters dated November 5, 2015; March 31, 2016; August 12, 2016; and August 30, 2016.

Brief description of amendments: The amendments revised the Technical Specifications to support planned plant modifications to implement chiller replacements, for performing maintenance, and for unplanned operational issues.

Date of issuance: November 2, 2016.

Effective date: As of the date of issuance and shall be implemented within 60 days.

Amendment Nos.: 316 (Unit 1) and 297 (Unit 2). A publicly-available version is in ADAMS under Accession No. ML16279A405; documents related to these amendments are listed in the Safety Evaluation enclosed with the amendments.

Renewed Facility Operating License Nos. DPR-70 and DPR-75: The amendments revised the Renewed Facility Operating Licenses and the Technical Specifications.

Date of initial notice in Federal Register: January 5, 2016 (81 FR 263). The supplemental letters dated March 31, 2016; August 12, 2016; and August 30, 2016, provided additional information that clarified the application, did not expand the scope of the application as originally noticed, and did not change the staff's original proposed no significant hazards consideration determination as published in the Federal Register.

The Commission's related evaluation of the amendments is contained in a Safety Evaluation dated November 2, 2016.

No significant hazards consideration comments received: No.

South Carolina Electric & Gas Company, South Carolina Public Service Authority, Docket No. 50-395, Virgil C. Summer Nuclear Station, Unit No. 1, Fairfield County, South Carolina

Date of amendment request: April 7, 2016.

Brief description of amendment: The amendment approved a change to the Technical Specification (TS) emergency feedwater (EFW) system pump performance testing requirements in TS ¾.7.1.2, “Emergency Feedwater System.” In addition, the request also included an administrative change to remove an expired note in TS ¾.7.1.2 that temporarily extended the allowed outage time during testing and maintenance affecting the motor-driven EFW pump flow control valves.

Date of issuance: October 26, 2016.

Effective date: As of the date of issuance and shall be implemented within 30 days of issuance.

Amendment No.: 206. A publicly-available version is in ADAMS under Accession No. ML16264A411; documents related to this amendment are listed in the Safety Evaluation enclosed with the amendment.

Renewed Facility Operating License No. NPF-12: Amendment revised the Renewed Facility Operating License and TSs.

Date of initial notice in Federal Register: June 7, 2016 (81 FR 36622).

The Commission's related evaluation of the amendment is contained in a Safety Evaluation dated October 26, 2016.

No significant hazards consideration comments received: No.

Southern Nuclear Operating Company, Inc., Docket No. 50-425, Vogtle Electric Generating Plant, Unit 2, Burke County, Georgia

Date of amendment request: August 12, 2016, as supplemented by letter dated September 15, 2016.

Brief description of amendment: The amendment modifies the Unit 2 Technical Specifications (TS) Limiting Condition for Operation (LCO) 3.7.9, “Ultimate Heat Sink (UHS),” to add a Note to extend the completion time of Condition D.2.2 of LCO 3.7.9 from 31 to 46 days to allow for refurbishing the 2B nuclear service cooling water (NSCW) transfer pump. This TS change would be a one-time change only for the 2B NSCW transfer pump during operating Cycle 19.

Date of issuance: October 31, 2016.

Effective date: As of the date of issuance and shall be implemented within 30 days of issuance.

Amendment No.: 164. A publicly-available version is in ADAMS under Accession No. ML16265A162; documents related to this amendment are listed in the Safety Evaluation enclosed with the amendment.

Renewed Facility Operating License No. NPF-81: Amendment revised the Renewed Facility Operating License and TSs.

Date of initial notice in Federal Register: August 30, 2016 (81 FR 59666). The supplemental letter dated September 15, 2016, provided additional information that clarified the application, did not expand the scope of the application as originally noticed, and did not change the staff's original proposed no significant hazards consideration (NSHC) determination as published in the Federal Register.

The Commission's related evaluation of the amendment and NSHC determination are contained in a Safety Evaluation dated October 31, 2016.

No significant hazards consideration comments received: No.

Dated at Rockville, Maryland, this 10th day of November 2016.
For the Nuclear Regulatory Commission.
Anne T. Boland,
Director, Division of Operating Reactor Licensing, Office of Nuclear Reactor Regulation.

[FR Doc. 2016-28085 Filed 11-21-16; 8:45 am]

BILLING CODE 7590-01-P